DEPARTMENT OF TRANSPORTATION

National Highway Traffic Safety Administration

[Docket No. NHTSA-2015-0105, Notice 2]

Decision That Nonconforming Model Year 2010 Lamborghini Murcielago Passenger Cars Are Eligible for Importation

AGENCY: National Highway Traffic Safety Administration (NHTSA), Department of Transportation (DOT).

ACTION: Grant of petition.

SUMMARY: This document announces a decision by the National Highway Traffic Safety Administration that certain model year (MY) 2010 Lamborghini Murcielago passenger cars (PCs) that were not originally manufactured to comply with all applicable Federal Motor Vehicle Safety Standards (FMVSS) are eligible for importation into the United States because they are substantially similar to vehicles originally manufactured for sale in the United States and certified by their manufacturer as complying with the safety standards (the U.S. certified version of the MY 2010 Lamborghini Murcielago PC), and they are capable of being readily altered to conform to the standards.

DATES: This decision became effective on October 3, 2017.

FOR FURTHER INFORMATION CONTACT: George Stevens, Office of Vehicle Safety Compliance, NHTSA (202-366-5308).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified as required under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc., of Santa Ana, CA (G&K) (Registered Importer #RI-90-007), petitioned NHTSA to decide whether MY 2010 Lamborghini Murcielago PCs are eligible for importation into the United States. NHTSA published a notice of the petition on May 2, 2017 (82 FR 20532) to afford an opportunity for public comment. No comments were received in response to this petition. The reader is referred to the receipt notice for a thorough description of the petition.

NHTSA's Conclusions

NHTSA has reviewed the petition and has concluded that the vehicles covered by the petition are substantially similar to MY 2010 Lamborghini Murcielago PCs and are capable of being readily altered to comply with all applicable FMVSS.

NHTSA has also concluded that each RI who imports and modifies one of these vehicles must include in the statement of conformity and associated documents (“conformity package”) it submits to the NHTSA under 49 CFR part 592.6(d) explicit proof to confirm that the vehicle was, where applicable, originally manufactured to conform to, or was successfully altered to conform to, FMVSS No. 101 Controls and Displays, FMVSS No. 138, Tire Pressure Monitoring Systems, FMVSS No. 208, Occupant Crash Protection, and FMVSS No. 301 Fuel System Integrity. This proof must include detailed descriptions of all modifications made, including a detailed description of systems in place (if any) on the vehicle as delivered to the RI, and a similarly detailed description of alterations made to the vehicle and said systems, including photographs of all required labeling. The descriptions must also include parts assembly diagrams and associated part numbers for all components that were removed from or installed in the vehicle, an accounting of any computer programming modifications undertaken and a description of how compliance was verified after alteration of the vehicle.

In addition to the information specified above, each conformity package must also include evidence showing how the RI verified that the changes it made in loading or reprograming vehicle software to achieve conformity with each separate FMVSS, did not also cause the vehicle to fall out of compliance with any other applicable FMVSS.

Decision

Accordingly, on the basis of the foregoing, NHTSA hereby decides that MY 2010 Lamborghini Murcielago passenger cars that were not originally manufactured to comply with all applicable FMVSS, are substantially similar to MY 2010 Lamborghini Murcielago passenger cars manufactured for importation into and/or sale in the United States, and certified under 49 U.S.C. 30115, and are capable of being readily altered to conform to all applicable Federal Motor Vehicle Safety Standards.

Vehicle Eligibility Number for Subject Vehicles

The importer of a vehicle admissible under any final decision must indicate on the form HS-7 accompanying entry the appropriate vehicle eligibility number indicating that the vehicle is eligible for entry. VSP-595 is the vehicle eligibility number assigned to vehicles admissible under this notice of final decision.

Authority: 49 U.S.C. 30118, 30120: delegations of authority at 49 CFR 1.95 and 501.8.

Jeffrey M. Giuseppe,
Director, Office of Vehicle Safety Compliance.

[FR Doc. 2017-21665 Filed 10-6-17; 8:45 am]

BILLING CODE 4910-59-P